SECURITIES AND EXCHANGE COMMISSION

[File No. 500-1]

Order of Suspension of Trading; In The Matter of American Realty Funds Corporation

November 15, 2012.

It appears to the Securities and Exchange Commission that there is a lack of current and accurate information concerning the securities of American Realty Funds Corporation (“American Realty”) because of questions concerning the accuracy of publicly disseminated information in the company's public filings and financial statements. American Realty is a Tennessee corporation based in Bay City, Michigan. Its stock is quoted on the OTCBB under the symbol ANFDE.

The Commission is of the opinion that the public interest and the protection of investors require a suspension of trading in the securities of the above-listed company.

Therefore, it is ordered, pursuant to Section 12(k) of the Securities Exchange Act of 1934, that trading in the securities of the above-listed company is suspended for the period from 9:30 a.m. EST, on November 15, 2012 through 11:59 p.m. EST, on November 29, 2012.

By the Commission.
Kevin M. O'Neill,
Deputy Secretary.

[FR Doc. 2012-28147 Filed 11-15-12; 11:15 am]

BILLING CODE 8011-01-P